DEPARTMENT OF COMMERCE

National Oceanic and Atmospheric Administration

[RTID 0648-XE669]

Pacific Fishery Management Council; Public Meetings

AGENCY: National Marine Fisheries Service (NMFS), National Oceanic and Atmospheric Administration (NOAA), Commerce.

ACTION: Notice of public meetings.

SUMMARY: The Pacific Fishery Management Council (Pacific Council) and its advisory bodies will meet March 4-11, 2025, in Vancouver, WA and via webinar. The Council meeting will be live streamed with the opportunity to provide public comment remotely.

DATES: The Pacific Council and its advisory bodies will meet March 4-11, 2025. The Pacific Council meeting will begin on Thursday, March 6, 2025, at 9 a.m. Pacific Time (PT), reconvening at 8 a.m. on Friday, March 7 through Tuesday, March 11, 2025. All meetings are open to the public, except for a Closed Session held from 8 a.m. to 9 a.m., Thursday, March 6, to address litigation and personnel matters. The Pacific Council will meet as late as necessary each day to complete its scheduled business.

ADDRESSES:

Meeting address: Meetings of the Pacific Council and its advisory entities will be held at the Vancouver Hilton at 301 West 6th St. in Vancouver, WA 98660; telephone: (360) 933-4500. Specific meeting information, including directions on joining the meeting, connecting to the live stream broadcast, and system requirements will be provided in the meeting announcement on the Pacific Council's website (see www.pcouncil.org). You may send an email to Mr. Kris Kleinschmidt (kris.kleinschmidt@noaa.gov) or contact him at (503) 820-2412 for technical assistance.

Council address: Pacific Fishery Management Council, 7700 NE Ambassador Place, Suite 101, Portland, OR 97220-1384.

FOR FURTHER INFORMATION CONTACT: Mr. Merrick Burden, Executive Director, Pacific Council; telephone: (503) 820-2280 or (866) 806-7204 toll-free, or access the Pacific Council website, www.pcouncil.org, for the proposed agenda and meeting briefing materials.

SUPPLEMENTARY INFORMATION: The March 4-11, 2025 meeting of the Pacific Council will be streamed live on the internet. The broadcasts begin initially at 9 a.m. PT Thursday, March 6, 2025, and 8 a.m. PT Friday, March 7 through Tuesday, March 11, 2025. Broadcasts end when business for the day is complete. Only the audio portion and presentations displayed on the screen at the Pacific Council meeting will be broadcast. The audio portion for the public is listen-only except that an opportunity for oral public comment will be provided prior to Council Action on each agenda item. Additional information and instructions on joining or listening to the meeting can be found on the Pacific Council's website (see www.pcouncil.org).

The following items are on the Pacific Council agenda, but not necessarily in this order. Agenda items noted as “Final” refer to actions the Council may take requiring the transmission of a proposed fishery management plan, proposed plan amendment, or proposed regulations to the U.S. Secretary of Commerce, under Sections 304 or 305 of the Magnuson-Stevens Fishery Conservation and Management Act. Additional details on agenda items, Council action, and advisory entity meeting times, are described in Agenda Item A.3, Proposed Council Meeting Agenda, and will be in the advance March 2025 briefing materials and posted on the Pacific Council website at www.pcouncil.org no later than Friday, February 14, 2025.

A. Call to Order

1. Opening Remarks

2. Roll Call

3. Agenda

4. Executive Director's Report

B. Open Comment Period

1. Comments on Non-Agenda Items

C. Pacific Halibut Management

1. Annual Report of the International Pacific Halibut Commission (IPHC)

2. Incidental Catch Recommendations: Options for Salmon Troll and Final Action for Fixed Gear Sablefish Fisheries

D. Cross Fishery Management Plan

1. United States Coast Guard (USCG) Annual Report [CANCELLED]

2. Marine Planning

E. Salmon Management

1. National Marine Fisheries Service Report

2. Review of 2024 Fisheries and Summary of 2025 Stock Forecasts

3. Identify Management Objectives and Preliminary Definition of 2025 Management Alternatives

4. Recommendations for 2025 Management Alternative Analysis

5. Further Direction for 2025 Management Alternatives

6. Further Direction for 2025 Management Alternatives

7. Adopt 2025 Management Alternatives for Public Review

8. Appoint Salmon Hearing Officers

F. Ecosystem

1. 2024-25 California Current Ecosystem Status Report and 2025 Science Review Topics

G. Habitat Issues

1. Habitat Issues

H. Groundfish Management

1. National Marine Fisheries Service Report

2. Humpback Whale and Leatherback Sea Turtle Biological Opinion

3. Implementation of the 2025 Pacific Whiting Fishery under the U.S./Canada Agreement and 2025 Fishery

4. Final Assessment Methodologies

5. Cordell Bank Conservation Area Revisions—Final

6. Phase 2 Stock Definitions

7. Limited Entry Fixed Gear Actions: Gear Endorsements, Cost Recovery, and Other Administrative Changes

8. Workload and New Management Measure Priorities

9. Inseason Adjustments—Final

I. Highly Migratory Species Management

1. National Marine Fisheries Service Report

2. International Management Activities

3. Highly Migratory Species Roadmap

J. Administrative Matters

1. Legislative Matters

2. Approve Meeting Record

3. Membership Appointments and Council Operating Procedures

4. Future Council Meeting Agenda and Workload Planning

Advisory Body Agendas

Advisory body agendas will include discussions of relevant issues that are on the Pacific Council agenda for this meeting and may also include issues that may be relevant to future Council meetings. Proposed advisory body agendas for this meeting will be available on the Pacific Council website, www.pcouncil.org, no later than Friday, February 14, 2025 by the end of the business day.

Schedule of Ancillary Meetings

Day 1—Tuesday, March 4, 2025

Scientific and Statistical Committee: 1 p.m.

Day 2—Wednesday, March 5, 2025

Groundfish Advisory Subpanel: 8 a.m.

Groundfish Management Team: 8 a.m.

Salmon Advisory Subpanel: 8 a.m.

Salmon Technical Team: 8 a.m.

Scientific and Statistical Committee: 8 a.m.

Legislative Committee: 10 a.m.

Enforcement Consultants: 2 p.m.

Day 3—Thursday, March 6, 2025

Groundfish Advisory Subpanel: 8 a.m.

Groundfish Management Team: 8 a.m.

Salmon Advisory Subpanel: 8 a.m.

Salmon Technical Team: 8 a.m.

Scientific and Statistical Committee: 8 a.m.

Ecosystem Advisory Subpanel: 8 a.m.

Ecosystem Workgroup: 8 a.m.

Enforcement Consultants: As Necessary

Day 4—Friday, March 7, 2025

Groundfish Advisory Subpanel: 8 a.m.

Groundfish Management Team: 8 a.m.

Salmon Advisory Subpanel: 8 a.m.

Salmon Technical Team: 8 a.m.

Ecosystem Advisory Subpanel: 8 a.m.

Ecosystem Workgroup: 8 a.m.

Enforcement Consultants: As Necessary

Day 5—Saturday, March 8, 2025

Groundfish Advisory Subpanel: 8 a.m.

Groundfish Management Team: 8 a.m.

Salmon Advisory Subpanel: 8 a.m.

Salmon Technical Team: 8 a.m.

Enforcement Consultants: As Necessary, Online

Day 6—Sunday, March 9, 2025

Groundfish Advisory Subpanel: 8 a.m.

Groundfish Management Team: 8 a.m.

Salmon Advisory Subpanel: 8 a.m.

Salmon Technical Team: 8 a.m.

Enforcement Consultants: As Necessary, Online

Day 7—Monday, March 10, 2025

Salmon Advisory Subpanel: 8 a.m.

Salmon Technical Team: 8 a.m.

Enforcement Consultants: As Necessary, Online

Day 8—Tuesday, March 11, 2025

Salmon Technical Team: 8 a.m.

Although non-emergency issues not contained in the meeting agenda may be discussed, those issues may not be the subject of formal action during these meetings. Action will be restricted to those issues specifically listed in this document and any issues arising after publication of this document that require emergency action under section 305(c) of the Magnuson-Stevens Fishery Conservation and Management Act, provided the public has been notified of the intent to take final action to address the emergency.

Special Accommodations

Requests for sign language interpretation or other auxiliary aids should be directed to Mr. Kris Kleinschmidt (kris.kleinschmidt@noaa.gov; (503) 820-2412) at least 10 business days prior to the meeting date.

Dated: February 11, 2025.
Rey Israel Marquez,
Acting Deputy Director, Office of Sustainable Fisheries, National Marine Fisheries Service.

[FR Doc. 2025-02662 Filed 2-13-25; 8:45 am]

BILLING CODE 3510-22-P